DEPARTMENT OF HEALTH AND HUMAN SERVICES

Meeting of the Advisory Committee on Blood Safety and Availability

AGENCY: Department of Health and Human Services, Office of the Secretary, Office of the Assistant Secretary for Health.

ACTION: Notice.

SUMMARY: As stipulated by the Federal Advisory Committee Act, the U.S. Department of Health and Human Services is hereby giving notice that the Advisory Committee on Blood Safety and Availability (ACBSA) will hold a meeting. The meeting will be open to the public.

DATES: The meeting will take place Monday, December 5, and Tuesday December 6, 2011, from 9 a.m. to 5 p.m.

ADDRESSES: National Institutes of Health Conference Room, 5635 Fishers Lane, Terrace Level, Rockville, MD 20852.

FOR FURTHER INFORMATION CONTACT: Mr. James Berger, Acting Executive Secretary, ACBSA, Office of the Assistant Secretary for Health, Department of Health and Human Services, 1101 Wootton Parkway, Suite 250, Rockville, MD 20852, (240) 453-8809, FAX (240) 453-8456, email ACBSA@hhs.gov.

SUPPLEMENTARY INFORMATION: The ACBSA provides advice to the Secretary, through the Assistant Secretary for Health, on a broad range of issues involving the safety and availability of blood and blood products. The agenda for the meeting includes discussion by the Committee on the current informed consent laws for blood, organ, cells, and tissues. The Committee will examine the informed consent laws and consider making recommendations about legal reform. In keeping with established mission, the ACBSA also will be asked to review and comment on previous ACBSA recommendations.

The public will have the opportunity to present their views to the Committee during a public comment session scheduled for December 6, 2011. Comments will be limited to five minutes per speaker and must be pertinent to the discussion. Pre-registration is required for participation in the public comment session. Any member of the public who would like to participate in this session is encouraged to contact the Acting Executive Secretary at his/her earliest convenience to register for time (limited to 5 minutes) and registration must be prior to close of business on December 1, 2011. If it is not possible to provide 30 copies of the material to be distributed, then individuals are requested to provide a minimum of one (1) copy of the document(s) to the Acting Executive Secretary to be distributed prior to the close of business on December 5, 2011. It is also requested that any member of the public who wishes to provide comments to the Committee utilizing electronic data projection to submit the necessary material to the Acting Executive Secretary prior to the close of business on December 1, 2011. Electronic comments must adhere to disability accessibility guidelines (Section 508 compliance).

Dated: October 27, 2011.
James J. Berger,
Acting Executive Secretary, Advisory Committee on Blood Safety and Availability.

[FR Doc. 2011-28489 Filed 11-2-11; 8:45 am]

BILLING CODE 4150-41-P